SECURITIES AND EXCHANGE COMMISSION

17 CFR Part 200

Organization; Conduct and Ethics; and Information and Requests

CFR Correction

In Title 17 of the Code of Federal Regulations, Parts 200 to 239, revised as of April 1, 2015, on page 19, in § 200.24, remove the words “Associate Executive Director of the Office of the Comptroller” and add in their place the words “Chief Financial Officer”.

[FR Doc. 2016-05581 Filed 3-10-16; 8:45 am]

BILLING CODE 1505-01-D